DEPARTMENT OF THE INTERIOR

Bureau of Land Management

[AZ-330-06-2641-HO-AZZF]

Topock Project Area Emergency Road Closure

AGENCY: Bureau of Land Management, Lake Havasu Field Office, Arizona, Interior.

SUMMARY: Pursuant to Title 43 Code of Federal Regulations, subpart 8364.1, the Bureau of Land Management, Lake Havasu Field Office, will close portions of roads on public lands to motorized and mechanized vehicle use. The purpose of the emergency closure is to protect soils, vegetation and cultural resources that have been adversely impacted, or are at risk of being adversely impacted, by off-highway vehicle (OHV) use. In addition, this closure is needed to alleviate congestion in the project area during Comprehensive Environmental Response, Compensation and Liability Act (CERCLA) remediation of hexavalent chromium in the groundwater at the Pacific Gas and Electric (PG&E) Topock Compressor Station in Needles, California. Copies of this Emergency Closure Notice and map are available at the BLM Lake Havasu Field Office, 2610 Sweetwater Avenue, Lake Havasu City, AZ 86406, phone (928) 505-1200.

EFFECTIVE DATE: This emergency road closure is in effect beginning August 1, 2006, and will remain in effect until considerable adverse effects giving rise to the closure are eliminated, and measures are implemented to prevent recurrence of these adverse effects.

FOR FURTHER INFORMATION CONTACT: Michael Dodson, Law Enforcement Ranger, Bureau of Land Management Lake Havasu Field Office, 2610 Sweetwater Avenue, Lake Havasu City, AZ 86406, phone (928) 505-1200.

SUPPLEMENTARY INFORMATION: The BLM Lake Havasu Field Office and other entities have observed and documented considerable adverse effects to soils, vegetation, and cultural resources from motorized or mechanized vehicle use in this area. Based on this information, the BLM authorized officer has determined that motorized or mechanized vehicle use in this area is causing, and will continue to cause, considerable adverse effects. In addition, portions of roads in the emergency road closure area are utilized by Pacific Gas and Electric Company to control and remove hexavalent chromium from the groundwater. The emergency road closure in the area will help protect public safety and remediation efforts during CERCLA operations, by restricting motorized and mechanized use of the area. The public lands affected are closed to travel by motorized and mechanized vehicle use (including trucks, sport utility vehicles, all-terrain vehicles, cars, motorcycles, bicycles), except for authorized access to private lands and rights-of-way (ROW), use by fire and law enforcement vehicles, emergency activities, and other authorized government uses. The authorities for this emergency closure and restriction order are 43 CFR 8364.1 and 9268.3(d). BLM is implementing this action on 269 acres of public land in San Bernardino County, California. OHV use on the remainder of the public lands administered by the BLM Lake Havasu Field Office will continue to be managed according to existing Federal Register orders, and the 1985 Yuma District Resource Management Plan.

Description of Closed Area: This emergency closure affects 269 acres of public lands and roads, subject to the exceptions below, located within the Topock Project area. Public lands in the following described tracts are hereby closed to motorized and mechanized vehicles:

T. 7 N., R. 24 E, portions of sections 5, 6, 7 and 8.

Private lands within the closure boundary are not under the jurisdiction of the BLM, and not affected by this emergency closure.

Exceptions to the Emergency Closure and Restriction Orders

Exceptions to this closure include emergency personnel (law enforcement, fire, medical), authorized BLM personnel, and persons authorized access to private lands and Rights of Way within the closure boundary.

Penalties

Under section 303(a) of the Federal Land Policy and Management Act (FLPMA) of 1976, (43 U.S.C. 1733(a), and 43 CFR 8360-7, if you violate these closures or restrictions on public lands within the boundaries established, you may be tried before a United States Magistrate and fined no more than $1,000 or, imprisoned for no more than 12 months, or both. Such violations may also be subject to the enhanced fines provided for by 18 U.S.C. 3571.

Dated: July 31, 2006.
Timothy Z. Smith,
Field Manager, BLM Lake Havasu Field Office.

[FR Doc. E6-15818 Filed 9-26-06; 8:45 am]

BILLING CODE 4310-55-32-P